OFFICE OF PERSONNEL MANAGEMENT

45 CFR Part 800

RIN 3206-AM47

Patient Protection and Affordable Care Act; Establishment of the Multi-State Plan Program for the Affordable Insurance Exchanges; Correction

AGENCY: U.S. Office of Personnel Management.

ACTION: Final rule; correction

SUMMARY: This document corrects technical and typographical errors that appeared in the final rule published in the Federal Register on March 11, 2013, entitled “Patient Protection and Affordable Care Act; Establishment of the Multi-State Plan Program for the Affordable Insurance Exchanges.” The changes are not substantive to our policy.

DATES: These corrections are effective on May 10, 2013.

FOR FURTHER INFORMATION CONTACT: Julia Elam by telephone at (202) 606-2128, by FAX at (202) 606-0033, or by email at mspp@opm.gov.

SUPPLEMENTARY INFORMATION:

Background

In FR Doc. 2013-04954 of March 11, 2013, there were technical and typographical errors that are identified and corrected in the “Correction of Errors” section below. The provisions in this correction notice are effective as if they had been included in the document published on March 11, 2013. Accordingly, the corrections are effective on May 10, 2013.

Correction of Errors

In FR Doc. 2013-04954 of March 11, 2013, make the following corrections:

1. On Web page 15564, in the third column, first paragraph, after the third sentence, add the following sentence: “We have modified the language to clarify that we will be reviewing the MSPP issuer's plan as part of the contract negotiation process.”

2. On Web page 15564, in the third column, first paragraph, remove the fourth sentence.

3. On Web page 15566, in the first column, fourth paragraph, second sentence, revise “(b)(2)(ii) to read “(b)(1)(ii)”.

4. On Web page 15566, in the third column, fourth full paragraph, revise the last sentence to read: “We are adopting proposed § 800.105(c)(3) as final, with one editorial clarification.” Also, after the corrected sentence, add two sentences that read, “We have slightly reworded and moved a sentence from paragraph (c)(4) to paragraph (c)(3) because it is more appropriately placed there. Paragraph (c) now refers consistently to `habilitative services and devices' throughout.”

5. On Web page 15567, in the first column, second full paragraph, revise the sentence to read: “Except for the editorial change described above, we are making no other changes to § 800.105(c)(4), because it is consistent with standards applicable to QHPs at 45 CFR 155.170.”

6. On Web page 15567, in the second column, third full paragraph, last sentence, remove the phrase, “including by inserting a reference to both habilitative `services and devices' in § 800.105(c)(3) to be consistent with § 800.105(c)(4)”.

7. On Web page 15567, in the second column, fourth paragraph, after the third sentence, add a sentence to read: “An eligible individual is an applicable taxpayer as defined in § 36B(c)(1) of the Code, or an eligible insured as defined in section 1402(b) of the Affordable Care Act.”

8. On Web page 15568, in the third column, second full paragraph, in the first sentence, remove the phrase “for that plan year”. Also, after the first sentence, add the sentence, “These costs include the costs of the OPM Office of Inspector General performing audits and investigations related to the MSPP.”

9. On Web page 15568, in the third column, third full paragraph, in the second sentence, revise “reasonable” to read “unreasonable.”

10. On Web page 15570, in the first column, revise the second full paragraph to read as follows:

“Similar to our response to comments on § 800.104, we are encouraging MSPP issuers to offer coverage in all service areas, if they have the capacity to do so. We recognize the challenges that issuers would face if they were required to offer coverage in all service areas, and we are maintaining in the final rule our proposed requirement for MSPP issuers to submit a plan for offering coverage in all service areas without initially requiring statewide coverage. We have modified the language to clarify that we will be reviewing the MSPP issuer's plan as part of the contract negotiation process. We are also clarifying in the final rule that MSPs will be required to comply with the service area requirements applicable to all QHPs in a State. We believe this requirement will create a level playing field and prevent issuers from cherry-picking. In addition, we intend to pay special attention to whether service areas include rural areas and American Indian/Alaska Natives during MSPP contract negotiations. We will evaluate the service area of an MSP to ensure that it has been established without regard to racial, ethnic, language, health status-related factors specified under § 2705(a) of the PHS Act, or other factors that exclude specific high-utilizing, high-cost or medically-underserved populations.”

11. On Web page 15570, second column, remove the first full paragraph,

12. On Web page 15582, second column, in the first full sentence, remove the phrase “no changes” and add in its place, “one minor clarifying editorial change relating to the authority of OPM's Office of Inspector General.”

§ 800.20 [Corrected]

13. On Web page 15588, in § 800.20, revise the two instances of the word “paragraph” to read “section” in the definition of group of issuers.

§ 800.110 [Corrected]

14. On Web page 15590, in § 800.110, add the following sentence after the third sentence: “For each State in which the MSPP issuer does not offer coverage in all service areas, the MSPP issuer must submit a plan for offering coverage throughout the State.”

§ 800.202 [Corrected]

15. On Web page 15592, in § 800.202(f), revise “2702” to read “2705.”

U.S. Office of Personnel Management.
Robert H. Shriver,
Assistant Director, National Healthcare Operations.

[FR Doc. 2013-06782 Filed 3-25-13; 8:45 am]

BILLING CODE 6325-64-P